DEPARTMENT OF THE INTERIOR

Bureau of Land Management

[LLWY920000.L51040000.FI0000. 18XL5017AR]

Notice of Proposed Reinstatement of Terminated Oil and Gas Leases in Wyoming (Southland 17)

AGENCY: Bureau of Land Management, Interior.

ACTION: Notice.

SUMMARY: As provided for under the Mineral Leasing Act of 1920, as amended, the Bureau of Land Management (BLM) received petitions for reinstatement of competitive oil and gas leases WYW-177798, WYW-183048, WYW-183798, WYW- 183807, WYW-183830, WYW-185283, WYW-185588, WYW-185589, WYW-185591, WYW-185593, WYW-185594, WYW-185595, WYW-185596, WYW-185597, WYW-185598, WYW-185599, and WYW-185601 from Southland Royalty Company LLC for land in Carbon and Sweetwater Counties, Wyoming. The lessee filed the petitions on time, along with all rentals due since the leases terminated under the law. No new leases affecting these lands were issued before the petitions were filed. The BLM proposes to reinstate the leases.

FOR FURTHER INFORMATION CONTACT: Chris Hite, Branch Chief for Fluid Minerals Adjudication, Bureau of Land Management, Wyoming State Office, 5353 Yellowstone Road, P.O. Box 1828, Cheyenne, Wyoming, 82003; phone 307-775-6176; email chite@blm.gov.

Persons who use a telecommunications device for the deaf may call the Federal Relay Service (FRS) at 1-800-877-8339 to contact Mr. Hite during normal business hours. The FRS is available 24 hours a day, 7 days a week, to leave a message or question with the above individual. A reply will be sent during normal business hours.

SUPPLEMENTARY INFORMATION: The lessee agreed to the amended lease terms for rentals and royalties at rates of $10 per acre, or fraction thereof, per year and 16 ⅔ percent, respectively. The lessee has paid the required $500 administrative fee and the $159 cost of publishing this notice. The lessee agreed to additional lease stipulations on lease WYW-177798 to protect nesting raptors, Greater Sage-Grouse habitat, amphibian and reptile species habitat, and to protect the historic and visual values of the Lincoln Highway/Union Pacific Railroad Grade historic property. The lessee agreed to additional lease stipulations on leases WYW-183048, WYW-183807, and WYW-185588 to protect Greater Sage-Grouse habitat. The lessee agreed to additional lease stipulations on lease WYW-183830 to protect raptor nesting habitat. The lessee agreed to the removal of a lease stipulation to protect Greater Sage-Grouse habitat on lease WYW185283 because the lease is no longer within 2 miles of a lek managed as occupied. No additional stipulations were added to the other leases.

The lessee met the requirements for reinstatement of the leases per Sec. 31(d) and (e) of the Mineral Leasing Act of 1920 (30 U.S.C. 188). The BLM proposes to reinstate each of the leases effective on the date of termination, under amended terms and conditions including the increased rental and royalty rates cited above.

Authority: 30 U.S.C. 188(e)(4) and 43 CFR 3108.2-3(b)(2)(v).

Chris Hite,
Chief, Branch of Fluid Minerals Adjudication.

[FR Doc. 2018-20501 Filed 9-19-18; 8:45 am]

BILLING CODE 4310-22-P